DEPARTMENT OF THE TREASURY

Internal Revenue Service

Publication of the Tier 2 Tax Rates

AGENCY: Internal Revenue Service (IRS), Treasury.

ACTION: Notice.

SUMMARY: Publication of the tier 2 tax rates for calendar year 2010 as required by section 3241(d) of the Internal Revenue Code (26 U.S.C. section 3241). Tier 2 taxes on railroad employees, employers, and employee representatives are one source of funding for benefits under the Railroad Retirement Act.

DATES: The tier 2 tax rates for calendar year 2010 apply to compensation paid in calendar year 2010.

FOR FURTHER INFORMATION CONTACT: Michelle R. Weigelt, CC:TEGE:EOEG:ET1, Internal Revenue Service, 1111 Constitution Avenue, NW., Washington, DC 20224, Telephone Number (202) 622-0047 (not a toll-free number).

Tier 2 Tax Rates: The tier 2 tax rate for 2010 under section 3201(b) on employees is 3.9 percent of compensation. The tier 2 tax rate for 2010 under section 3221(b) on employers is 12.1 percent of compensation. The tier 2 tax rate for 2010 under section 3211(b) on employee representatives is 12.1 percent of compensation.

Dated: November 18, 2009.
Nancy Marks,
Division Counsel/Associate Chief Counsel, (Tax Exempt and Government Entities).

[FR Doc. E9-28331 Filed 11-25-09; 8:45 am]

BILLING CODE 4830-01-P